DEPARTMENT OF EDUCATION

Office of Elementary and Secondary Education; Overview Information; Native Hawaiian Education Program; Notice Inviting Applications for New Awards for Fiscal Year (FY) 2004

Catalog of Federal Domestic Assistance (CFDA) Number: 84.362A.

Dates:

Applications Available: June 3, 2004.

Deadline for Transmittal of Applications: July 6, 2004.

Deadline for Intergovernmental Review: September 1, 2004.

Eligible Applicants: Native Hawaiian educational organizations, Native Hawaiian community-based organizations; public and private nonprofit organizations, agencies, and institutions with experience in developing or operating Native Hawaiian programs or programs of instruction in the Native Hawaiian language; and consortia of the previously mentioned organizations, agencies, and institutions.

Estimated Available Funds: $300,000.

Number of Awards: 1.

Note: The Department is not bound by any estimates in this notice.

Project Period: Up to 12 months.

Full Text of Announcement

I. Funding Opportunity Description

Purpose of Program: The purpose of the Native Hawaiian Education program is to support innovative projects that enhance the educational services provided to Native Hawaiian children and adults.

Priorities: For the FY 2004 competition, we have established both an absolute priority and an invitational priority.

Absolute Priority

The absolute priority, which we have established in accordance with 34 CFR 75.105(b)(2)(iv), is from section 7205(a)(2)(C) of the Elementary and Secondary Education Act of 1965, as amended (20 U.S.C. 7515(a)(2)(C)). Under 34 CFR 75.105(c)(3), we consider only applications that meet this absolute priority.

This absolute priority is for a project in which the grantee must use the funds awarded to support a graduate-level educational program that addresses the needs of Native Hawaiians in fields or disciplines in which Native Hawaiians are underemployed, which may include the legal profession.

The Secretary interprets the authorizing statute to prohibit the grantee from using funds awarded under this competition for legal services, including preparation for pending or future litigation.

Invitational Priority

Within this absolute priority, we are particularly interested in applications that address the following invitational priority. Under 34 CFR 75.105(c)(1), we do not give an application that meets this invitational priority a competitive or absolute preference over other applications.

This invitational priority is for a program provided by an institution of higher education that focuses on the history and culture of Native Hawaiians.

Program Authority: 20 U.S.C. 7515-7517.

Applicable Regulations: The Education Department General Administrative Regulations in 34 CFR parts 74, 75, 77, 79, 80, 81, 82, 84, 85, 86, 97, 98, and 99. The regulations in 34 CFR part 86 apply to institutions of higher education only.

II. Award Information

Type of Award: Competitive grant.

Estimated Available Funds: $300,000.

Number of Awards: 1.

Note: The Department is not bound by any estimates in this notice.

Project Period: Up to 12 months.

III. Eligibility Information

1. Eligible Applicants: Native Hawaiian educational organizations, Native Hawaiian community-based organizations; public and private nonprofit organizations, agencies, and institutions with experience in developing or operating Native Hawaiian programs or programs of instruction in the Native Hawaiian language; and consortia of the previously mentioned organizations, agencies, and institutions.

2. Cost Sharing or Matching: This competition does not involve cost sharing or matching.

IV. Application and Submission Information

1. Address to Request Application Package: Lynn Thomas, U.S. Department of Education, 400 Maryland Avenue, SW., room 3C126, Washington, DC 20202-6410. Telephone: (202) 260-1541 or by e-mail: lynn.thomas@ed.gov.

If you use a telecommunications device for the deaf (TDD), you may call the Federal Information Relay Service (FIRS) at 1-800-877-8339.

Individuals with disabilities may obtain a copy of the application package in an alternative format (e.g., Braille, large print, audiotape, or computer diskette) by contacting the contact person listed in this section.

2. Content and Form of Application Submission: Requirements concerning the content of an application, together with the forms you must submit, are in the application package for this competition.

3. Submission Dates and Times:

Applications Available: June 3, 2004.

Deadline for Transmittal of Applications: July 6, 2004.

The dates and times for the transmittal of applications by mail or by hand (including a courier service or commercial carrier) are in the application package for this competition.

We do not consider an application that does not comply with the deadline requirements.

Deadline for Intergovernmental Review: September 1, 2004.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Instructions and requirements for the transmittal of applications by mail or by hand (including a courier service or commercial carrier) are in the application package for this competition.

V. Application Review Information

Selection Criteria: The selection criteria for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary.

VII. Agency Contact

For Further Information Contact:

Lynn Thomas, U.S. Department of Education, 400 Maryland Avenue, SW., room 3C126, Washington, DC 20202-6410. Telephone: (202) 260-1541 or by e-mail: lynn.thomas@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 27, 2004.
Raymond J. Simon,
Assistant Secretary for Elementary and Secondary Education.

[FR Doc. 04-12608 Filed 6-2-04; 8:45 am]

BILLING CODE 4000-01-P